INTERNATIONAL TRADE COMMISSION

[Investigation No. 731-TA-1090 (Final)]

Superalloyed Degassed Chromium From Japan

Determination

On the basis of the record ¹ developed in the subject investigation, the United States International Trade Commission (Commission) determines, pursuant to section 735(b) of the Tariff Act of 1930 (19 U.S.C. 1673d(b)) (the Act), that an industry in the United States is materially injured by reason of imports from Japan of superalloy degassed chromium, provided for in subheading 8112.21.00 of the Harmonized Tariff Schedule of the United States, that have been found by the Department of Commerce (Commerce) to be sold in the United States at less than fair value (LTFV).

¹ The record is defined in sec. 207.2(f) of the Commission's Rules of Practice and Procedure (19 CFR § 207.2(f)).

Background

The Commission instituted this investigation effective March 4, 2005, following receipt of a petition filed with the Commission and Commerce by Eramet Marietta Inc., Marietta, OH, and the Paper, Allied-Industrial, Chemical and Energy Workers International Union, Local 5-0639, Belpre, OH. The final phase of the investigation was scheduled by the Commission following notification of a preliminary determination by Commerce that imports of superalloy degassed chromium from Japan were being sold at LTFV within the meaning of section 733(b) of the Act (19 U.S.C. 1673b(b)). Notice of the scheduling of the final phase of the Commission's investigation and of a public hearing to be held in connection therewith was given by posting copies of the notice in the Office of the Secretary, U.S. International Trade Commission, Washington, DC, and by publishing the notice in the Federal Register of September 7, 2005 (70 FR 53252). The hearing was held in Washington, DC, on November 3, 2005, and all persons who requested the opportunity were permitted to appear in person or by counsel.

The Commission transmitted its determination in this investigation to the Secretary of Commerce on December 15, 2005. The views of the Commission are contained in USITC Publication 3825 (December 2005), entitled Superalloy Degassed Chromium from Japan: Investigation No. 731-TA-1090 (Final).

By order of the Commission.
Issued: December 15, 2005.
Marilyn R. Abbott,
Secretary to the Commission.

[FR Doc. E5-7553 Filed 12-19-05; 8:45 am]

BILLING CODE 7020-02-P